DEPARTMENT OF COMMERCE

Bureau of the Census

2010 Census Advisory Committee

AGENCY: Bureau of the Census, Commerce.

ACTION: Notice of public meeting.

SUMMARY: The Bureau of the Census (U.S. Census Bureau) is giving notice of a meeting of the 2010 Census Advisory Committee. Committee members will address policy, research, and technical issues related to 2010 Decennial Census programs, including the American Community Survey and related programs. Last-minute changes to the agenda are possible, which could prevent giving advance notification of schedule changes.

DATES: May 11-12, 2006. On May 11, the meeting will begin at approximately 9 a.m. and end at approximately 5 p.m. On Friday, May 12, 2006, the meeting will begin at approximately 9 a.m. and end at approximately 11:15 a.m.

ADDRESSES: The meeting will be held at the U.S. Census Bureau, 4700 Silver Hill Road, Federal Building 3, Suitland, Maryland 20746.

FOR FURTHER INFORMATION CONTACT: Jeri Green, Committee Liaison Officer, Department of Commerce, U.S. Census Bureau, Room 3627, Federal Office Building 3, Washington, DC 20233, telephone (301) 763-2070, TTY (301) 457-2540.

SUPPLEMENTARY INFORMATION: The 2010 Census Advisory Committee is composed of a Chair, Vice-Chair, and 20 member organizations—all appointed by the Secretary of Commerce. The Committee considers the goals of the decennial census, including the American Community Survey and related programs, and users' needs for information provided by the decennial census from the perspective of outside data users and other organizations having a substantial interest and expertise in the conduct and outcome of the decennial census. The Committee has been established in accordance with the Federal Advisory Committee Act (Title 5, United States Code, Appendix 2, Section 10(a)(b)).

A brief period will be set aside at the meeting for public comment. However, individuals with extensive statements for the record must submit them in writing to the Census Bureau Committee Liaison Officer named above at least three working days prior to the meeting. Seating is available to the public on a first-come, first-served basis.

The meeting is physically accessible to people with disabilities. Requests for sign language interpretation or other auxiliary aids should be directed to the Census Bureau Committee Liaison Officer as soon as known, preferably two weeks prior to the meeting.

Dated: April 12, 2006.
Charles Louis Kincannon,
Director, Bureau of the Census.

[FR Doc. E6-5655 Filed 4-14-06; 8:45 am]

BILLING CODE 3510-07-P